ENVIRONMENTAL PROTECTION AGENCY

[EPA-HQ-OPP-2021-0513; FRL-8830-02-OCSPP]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows a September 2, 2021, Federal Register Notice of Receipt of Requests from the registrants listed in Table 3 of Unit II to voluntarily cancel and amend to terminate uses of these product registrations. In the September 2, 2021, notice, EPA indicated that it would issue an order implementing the cancellations and amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective November 15, 2021.

FOR FURTHER INFORMATION CONTACT: Christopher Green, Registration Division (7502P), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0513, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the Agency taking?

This notice announces the cancellations and amendments to terminate uses, as requested by registrants, of products registered under FIFRA section 3 (7 U.S.C. 136a). These registrations are listed in sequence by registration number in Tables 1 and 2 of this unit.

Table 1—Product Cancellations
Registration No. | Company No. | Product name | Active ingredients
4-459 | 4 | Bonide Captan Wettable | Captan.
100-1343 | 100 | Pulsar Herbicide | Fluroxypyr-meptyl & Dicamba, diglycolamine salt.
279-3027 | 279 | Ammo 2.5 EC Insecticide | Cypermethrin.
279-3070 | 279 | Cynoff WSP Insecticide | Cypermethrin.
279-3591 | 279 | Statement Herbicide | Metolachlor & Sodium salt of fomesafen.
499-371 | 499 | Whitmire PT 120 XLO Sumithrin Contact Insecticide | Phenothrin.
499-376 | 499 | Whitmire PT 1810 Total Release Insecticide | Bifenthrin.
499-443 | 499 | Whitmire TC 161 Injection System | Prallethrin & Cyfluthrin.
499-471 | 499 | Whitmire Micro-Gen TC200 Injection System | Prallethrin & lambda-Cyhalothrin.
499-485 | 499 | TC 218 | Cyfluthrin.
499-489 | 499 | TC 62 | Cyfluthrin.
499-523 | 499 | TC 260 | Cyfluthrin.
499-538 | 499 | TC 130 Gen II | Cyfluthrin.
1381-188 | 1381 | Battery 2.5 EC | Cypermethrin.
2693-212 | 2693 | Super Epoxycop with Irgarol-Blue | 1,3,5-Triazine-2,4-diamine, N-cyclopropyl-N′-(1,1-dimethylethyl)-6-(methylthio)- & Cuprous oxide.
5383-223 | 5383 | Troy EX2407 | 1,2-Benzisothiazolin-3-one & Ziram.
7969-343 | 7969 | Cyfluthrin Encapsulated Residual Insecticide Spray | Cyfluthrin.
7969-361 | 7969 | Priaxor D Fungicide | Tetraconazole; Fluxapyroxad & Pyraclostrobin.
8622-81 | 8622 | Stabilized Bromine Solution | Sulfamic acid, bromo-, monosodium salt.
34704-884 | 34704 | Bifenthrin 7 T&O | Bifenthrin.
34704-888 | 34704 | Bifenthrin 7.9% FL Nursery Insecticide/Miticide | Bifenthrin.
34704-899 | 34704 | PMN HG | Permethrin.
34704-919 | 34704 | Bisect Nursery Granular Insecticide | Bifenthrin.
34704-925 | 34704 | Termethrin 3.2 Termiticide/Insecticide (Alternate) | Permethrin.
34704-956 | 34704 | Bisect CG Granules | Bifenthrin.
34704-957 | 34704 | Bisect G (Alternate) | Bifenthrin.
34704-963 | 34704 | Covert Termiticide/Insecticide | Permethrin.
34704-977 | 34704 | LPI Metolachlor | Metolachlor.
34704-1073 | 34704 | LPI S-Metolachlor Herbicide | S-Metolachlor.
34704-1027 | 34704 | Permethrin Cutworm Bait | Permethrin.
60061-94 | 60061 | Pettit Marine Paint Ultima SR Ablative Dual Biocide Antifouling Bottom Paint | Cuprous oxide & 1,3,5-Triazine-2,4-diamine, N-cyclopropyl-N′-(1,1-dimethylethyl)-6-(methylthio)-.
60061-110 | 60061 | Petit Marine Paint SR-21 Fresh Water Antifouling | 1,3,5-Triazine-2,4-diamine, N-cyclopropyl-N′-(1,1-dimethylethyl)-6-(methylthio)-.
60061-111 | 60061 | Copper Powder 1921 | Copper as elemental.
60061-117 | 60061 | Pettit Marine Paint Ultima SR Antifouling Paint | 1,3,5-Triazine-2,4-diamine, N-cyclopropyl-N′-(1,1-dimethylethyl)-6-(methylthio)- & Cuprous oxide.
60061-136 | 60061 | Pettit Hydrocoat SR Dual-Biocide Ablative Antifouling | Cuprous oxide & 1,3,5-Triazine-2,4-diamine, N-cyclopropyl-N′-(1,1-dimethylethyl)-6-(methylthio)-.
60061-141 | 60061 | Pettit Hydrocoat Pro SR Dual-Biocide Ablative Antifouling Paint | 1,3,5-Triazine-2,4-diamine, N-cyclopropyl-N′-(1,1-dimethylethyl)-6-(methylthio)- & Cuprous oxide.
62719-427 | 62719 | Dimension 1EC Turf Herbicide | Dithiopyr.
62719-468 | 62719 | Dimension Ultra 2SC | Dithiopyr.
83222-7 | 83222 | Cyper G-AG 2.5 EC Insecticide | Cypermethrin.
83222-30 | 83222 | Clethodim 2 EC Herbicide | Clethodim.
84229-18 | 84229 | Tide Technical Tebuconazole | Tebuconazole.
AL-060006 | 34704 | Permethrin Insecticide | Permethrin.
GA-060005 | 34704 | Permethrin Insecticide | Permethrin.
ID-060017 | 34704 | Stealth Herbicide | Pendimethalin.
ID-060020 | 34704 | Stealth Herbicide | Pendimethalin.
MA-170001 | 34704 | Intensity Post-Emergence Grass Herbicide | Clethodim.
WA-160001 | 90924 | Formaldehyde Solution 37 | Formaldehyde.

Table 2—Product Registration Amendments To Terminate Uses
Registration No. | Company No. | Product name | Active ingredient | Uses to be terminated
270-300 | 270 | Equicare Flysect Super-7 Repellent Spray | Stabilene; MGK 326; MGK 264; Piperonyl butoxide; Pyrethrins & Permethrin | On dogs.
19713-235 | 19713 | Drexel Captan 50W | Captan | Home and Garden Sublabel.
19713-362 | 19713 | Drexel 80% Captan | Captan | Home and Garden Sublabel.
19713-385 | 19713 | Drexel 80% Kaptan | Captan | Home and Garden Sublabel.
19713-405 | 19713 | Drexel Captan 80 WDF | Captan | Home and Garden Sublabel.
19713-646 | 19713 | Drexel Captan 50W Fungicide | Captan | Home and Garden Sublabel.
19713-652 | 19713 | Drexel Captan 80 WDG | Captan | Home and Garden Sublabel.
47371-146 | 47371 | HS-420 (10%) Water Treatment Microbicide | 1-Decanaminium, N-decyl-N,N-dimethyl-, chloride | Directions for use for sanitization of food processing equipment and other hard surfaces in food contact locations.
47371-164 | 47371 | Formulation HS-1210 Disinfectant/Sanitizer (50%) | Alkyl* dimethyl benzyl ammonium chloride. *(50%C14, 40%C12, 10%C16) & 1-Decanaminium, N-decyl-N,N-dimethyl-, chloride | Directions for use for re-circulating water in cooling towers and oil field flood or saltwater disposal systems.
61842-21 | 61842 | Linex® 4L Agricultural Herbicide | Linuron | Post-harvest; Crop stubble; Fallow Ground; Stale Seedbed.
61842-22 | 61842 | Linuron Technical | Linuron | Terrestrial Non-Cropland; Lupine.
61842-23 | 61842 | Lorox DF Agricultural Herbicide | Linuron | Corn (field); Potato; Sorghum.
61842-24 | 61842 | Linuron Flake Technical | Linuron | Terrestrial Non-Cropland; Lupine.
61842-32 | 61842 | Linuron Technical | Linuron | Terrestrial Non-Cropland; Lupine.

Table 3 of this unit includes the names and addresses of record for all registrants of the products in Tables 1 and 2 of this unit, in sequence by EPA company number. This number corresponds to the first part of the EPA registration numbers of the products listed above.

Table 3—Registrants of Cancelled and Amended Products
EPA company No. | Company name and address
4 | Bonide Products, LLC, 6301 Sutliff Road, Oriskany, NY 13424.
100 | Syngenta Crop Protection, LLC, 410 Swing Road, P.O. Box 18300, Greensboro, NC 27419-8300.
270 | Farnam Companies, Inc., 1501 E Woodfield Road, Suite 200 West, Schaumburg, IL 60173.
279 | FMC Corporation, 2929 Walnut Street, Philadelphia, PA 19104.
499 | BASF Corporation, 26 Davis Drive, P.O. Box 13528, Research Triangle Park, NC 27709-3528.
1381 | Winfield Solutions, LLC, P.O. Box 64589, St. Paul, MN 55164-0589.
2693 | International Paint, LLC, 6001 Antoine Drive, Houston, TX 77091.
5383 | Troy Chemical Corporation, 8 Vreeland Road, Florham Park, NJ 07932.
7969 | BASF Corporation, 26 Davis Drive, P.O. Box 13528, Research Triangle Park, NC 27709-3528.
8622 | ICL-IP America, Inc., 11636 Huntington Road, Gallipolis Ferry, WV 25515.
19713 | Drexel Chemical Company, P.O. Box 13327, Memphis, TN 38113-0327.
34704 | Loveland Products, Inc., P.O. Box 1286, Greeley, CO 80632-1286.
47371 | H&S Chemicals Division of Lonza, LLC, 412 Mount Kemble Avenue, Morristown, NJ 07960.
60061 | Kop-Coat, Inc., 36 Pine Street, Rockaway, NJ 07866.
61842 | Tessenderlo Kerley, Inc., Agent Name: Pyxis Regulatory Consulting, Inc., 4110 136th Street Ct. NW, Gig Harbor, WA 98332.
62719 | Corteva Agriscience, LLC, 9330 Zionsville Road, Indianapolis, IN 46268.
83222 | Winfield Solutions, LLC, 1080 County Rd., F West, MS5705, P.O. Box 64589, St. Paul, MN 55164.
84229 | Tide International, USA, Inc., Agent Name: Pyxis Regulatory Consulting, Inc., 4110 136th Street Ct. NW, Gig Harbor, WA 98332.
90924 | Championx, LLC, 11177 S Stadium Drive, Sugar Land, TX 77478.

III. Summary of Public Comments Received and Agency Response to Comments

During the public comment period provided, EPA received no comments in response to the September 2, 2021, Federal Register notice announcing the Agency's receipt of the requests for voluntary cancellations and amendments to terminate uses of the products listed in Tables 1 and 2 of Unit II.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is November 15, 2021. Any distribution, sale, or use of existing stocks of the products identified in Tables 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of September 2, 2021 (86 FR 49327) (FRL-8830-01-OSCPP). The comment period closed on October 4, 2021.

VI. Provisions for Disposition of Existing Stocks

Existing stocks are those stocks of registered pesticide products which are currently in the United States and which were packaged, labeled, and released for shipment prior to the effective date of the action. The existing stocks provision for the products subject to this order is as follows.

For the voluntary cancellations, the registrants may continue to sell and distribute existing stocks of products listed in Table 1 until November 15, 2022, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II under the previously approved labeling until May 15, 2023, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: November 5, 2021.
Catherine Aubee,
Acting Director, Registration Division, Office of Pesticide Programs.

[FR Doc. 2021-24800 Filed 11-12-21; 8:45 am]

BILLING CODE 6560-50-P